DEPARTMENT OF THE INTERIOR

Bureau of Land Management

[LLNV933000.19200000-ET0000.LRORF2012100; TAS XXX; N-98605; MO# 4500168920]

Public Land Order No. 7921; Withdrawal of Public Land for Satellite Calibration in Railroad Valley; Nye County, Nevada

AGENCY: Bureau of Land Management, Interior.

ACTION: Public Land Order.

SUMMARY: This Public Land Order (PLO) withdraws 22,684.07 acres of public lands within the Railroad Valley (RRV) area, Nye County, Nevada, from settlement, sale, location, or entry under the public land laws, including location and entry under the United States mining laws, leasing under the mineral and geothermal leasing laws, and disposal of mineral materials under the Materials Act of 1947, subject to valid existing rights, for a period of 20 years, and reserves them for National Aeronautics and Space Administration (NASA) satellite calibration activities. Jurisdiction over the public lands remains with the Bureau of Land Management (BLM).

DATES: This PLO takes effect on April 27, 2023.

FOR FURTHER INFORMATION CONTACT: Edison Garcia, Land Law Examiner, BLM, by telephone at (775) 861-6530; by email: edisongarcia@blm.gov, during regular business hours, 8:00 a.m. to 4:00 p.m., Monday through Friday, except holidays. Individuals in the United States who are deaf, deafblind, hard of hearing, or have a speech disability may dial 711 (TTY, TDD, or TeleBraille) to access telecommunications relay services for contacting Mr. Garcia. Individuals outside the United States should use the relay services offered within their country to make international calls to the point-of-contact in the United States. You will receive a reply during normal business hours.

SUPPLEMENTARY INFORMATION: The purpose of the withdrawal and reservation is to maintain the physical integrity of the surface and subsurface environment to ensure NASA satellite calibration activities are not invalidated or otherwise adversely affected.

Order

By virtue of the authority vested in the Secretary of the Interior by Section 204 of the Federal Land Policy and Management Act of 1976, 43 U.S.C. 1714, it is ordered as follows:

1. Subject to valid existing rights, the following described public lands are hereby withdrawn from settlement, sale, location, or entry under the public land laws, including location and entry under the United States mining laws, leasing under the mineral and geothermal leasing laws, and disposal of mineral materials under the Materials Act of 1947 (30. U.S.C. 601-604) and reserved for NASA's satellite calibration activities within Railroad Valley, Nye County, Nevada.

Mount Diablo Meridian, Nevada

T. 7 N., R. 56 E.,

Secs. 2 thru 17 and secs. 20 thru 27.

T. 8 N., R. 56 E.,

sec. 19, E½;

secs. 20 and 21 and secs. 27 thru 35.

The area described contains 22,684.07 acres of public lands in Nye County.

2. This withdrawal will expire 20 years from the effective date of this Order, unless, as a result of a review conducted before the expiration date pursuant to Section 204(f) of the Federal Land Policy and Management Act of 1976, 43 U.S.C. 1714(f), the Secretary determines that the withdrawal shall be extended.

(Authority: 43 U.S.C. 1714)

Tommy P. Beaudreau,
Deputy Secretary.

[FR Doc. 2023-08916 Filed 4-26-23; 8:45 am]

BILLING CODE 4331-21-P